NUCLEAR REGULATORY COMMISSION

[Docket Nos. 50-247 and 50-286; NRC-2008-0672]

Entergy Nuclear Operations, Inc.; Indian Point Nuclear Generating Unit Nos. 2 and 3

AGENCY: Nuclear Regulatory Commission.

ACTION: Draft supplemental environmental impact statement; request for comment.

SUMMARY: The U.S. Nuclear Regulatory Commission (NRC) is issuing for public comment a draft supplement to Supplement 38 to the Generic Environmental Impact Statement for License Renewal of Nuclear Power Plants (GEIS), NUREG-1437, regarding the renewal of operating licenses DPR-26 and DPR-64, held by Entergy Nuclear Operations, Inc. (Entergy), for the operation of Indian Point Nuclear Generating Unit Nos. 2 and 3 (IP2 and IP3), for an additional 20 years of operation. Units IP2 and IP3 are located in Westchester County in the Village of Buchanan, New York, approximately 24 miles north of New York City.

DATES: Submit comments by March 4, 2016. Comments received after this date will be considered if it is practical to do so, but the Commission is able to ensure consideration only for comments received before this date.

ADDRESSES: You may submit comments by any of the following methods (unless this document describes a different method for submitting comments on a specific subject):

• Federal Rulemaking Web site: Go to http://www.regulations.gov and search for Docket ID NRC-2008-0672. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Michael Wentzel, Office of Nuclear Reactor Regulation, U.S. Nuclear Regulatory Commission, Washington DC 20555-0001; telephone: 301-415-6459, email: michael.wentzel@nrc.gov.

SUPPLEMENTARY INFORMATION:

I. Obtaining Information and Submitting Comments

A. Obtaining Information

Please refer to Docket ID NRC-2008-0672 when contacting the NRC about the availability of information for this action. You may obtain publicly-available information related to this action by any of the following methods:

• Federal rulemaking Web site: Go to http://www.regulations.gov and search for Docket ID NRC-2008-0672.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's public document room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

B. Submitting Comments

Please include Docket ID NRC-2008-0672 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC is issuing for public comment a draft supplement to Supplement 38 to the GEIS, NUREG-1437 (ADAMS No. ML15351A422), regarding the renewal of operating licenses DPR-26 and DPR-64, held by Entergy for the operation of IP2 and IP3, for an additional 20 years of operation. Units IP2 and IP3 are located in Westchester County in the Village of Buchanan, New York, approximately 24 miles north of New York City. The NRC staff published final plant-specific Supplement 38 to NUREG-1437 (final supplemental environmental impact statement (FSEIS)), Volumes 1-3 (ADAMS No. ML103360205), in December 2010 (75 FR 77920). The FSEIS documented the NRC staff's findings relative to the environmental impacts of the license renewal of IP2 and IP3. In June 2013 (78 FR 39018), the NRC staff published a final supplement to 2010 FSEIS as NUREG-1437, Supplement 38, Volume 4 (ADAMS No. ML13170A028). The June 2013 supplement updated the NRC staff's final analysis to include corrections to impingement and entrainment data presented in the FSEIS; revised conclusions on thermal impacts based on newly available thermal plume studies; and provided an update of the status of the NRC's consultation, under section 7 of the Endangered Species Act of 1973, as amended, with the National Marine Fisheries Service regarding the shortnose sturgeon and Atlantic sturgeon.

On September 2, 2014 (79 FR 52059), the NRC notified the public of its intent to prepare a second supplement to the FSEIS to evaluate new information identified subsequent to the publication of the June 2013 supplement, including new aquatic impact data, refined cost estimates associated with the licensee's severe accident mitigation alternatives analysis, and other matters. This draft supplement, published as Volume 5 of the FSEIS, documents the NRC staff's evaluation of the new information.

Documents related to this notice are available on the NRC's Plant Application for License Renewal Web site at http://www.nrc.gov/reactors/operating/licensing/renewal/applications/indian-point.html. A copy of documents related to this notice also will be available to local residents near the site at the White Plains Public Library located at 100 Martine Avenue, White Plains, NY 10601; at the Hendrick Hudson Free Library located at 185 Kings Ferry Road, Montrose, NY 10548; and at the Field Library located at 4 Nelson Avenue, Peekskill, NY 10566.

Dated at Rockville, Maryland, this 21st day of December 2015.
For the Nuclear Regulatory Commission.
James G. Danna,
Chief, Projects Branch 2, Division of License Renewal, Office of Nuclear Reactor Regulation.

[FR Doc. 2015-32777 Filed 12-28-15; 8:45 am]

BILLING CODE 7590-01-P